DEPARTMENT OF HEALTH AND HUMAN SERVICES

Indian Health Service

Policy on Conferring With Urban Indian Organizations; Correction

AGENCY: Indian Health Service, HHS.

ACTION: Notice; correction.

SUMMARY: The Indian Health Service is issuing this Notice to correct the effective date from October 29, 2014 to September 22, 2014 for the final Policy for Conferring with Urban Indian Organizations. The notice published at 79 FR 58359, September 29, 2014.

FOR FURTHER INFORMATION CONTACT: Office of Management Services, Management Policy and Internal Control Staff, Indian Health Service, 801 Thompson Avenue, Suite 625A, Rockville, MD 20852, Telephone (301) 443-2650. (This is not a toll-free number.)

Correction

In the Federal Register of September 29, 2014, in FR Doc. 2014-23005, on page 58359, in the third column, following DATES the correct date should read as follows:

This Policy is effective September 22, 2014.

Dated: October 3, 2014.
Yvette Roubideaux,
Acting Director, Indian Health Service.

[FR Doc. 2014-24154 Filed 10-8-14; 8:45 am]

BILLING CODE 4165-16-P